DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders and findings with January anniversary dates. In accordance with Commerce's regulations, we are initiating those administrative reviews.

DATES: Applicable March 4, 2021.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders and findings with January anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at https://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 30 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://enforcement.trade.gov/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

For exporters and producers who submit a Separate Rate Application or Certification and subsequently are selected as mandatory respondents, these exporters and producers will no longer be eligible for separate rate status unless they respond to all parts of the questionnaire as mandatory respondents.

Initiation of Reviews:

In accordance with 19 CFR 351.221(c)(1)(i), we are initiating administrative reviews of the following AD and CVD orders and findings. We intend to issue the final results of these reviews not later than January 31, 2022.

| Period to be reviewed
AD Proceedings
Canada: Softwood Lumber,⁵ A-122-857 | 1/1/20-12/31/20
1074712 BC Ltd.
5214875 Manitoba Ltd.
54 Reman
752615 B.C Ltd. Fraserview Remanufacturing Inc., (dba Fraserview Cedar Products)
9224-5737 Quebec inc. (aka A.G. Bois)
AA Trading Ltd.
Absolute Lumber Products Ltd.
Adwood Manufacturing Ltd
Aler Forest Products Ltd.
All American Forest Products Inc.
Alpa Lumber Mills Inc.
Andersen Pacific Forest Products Ltd.
Anglo American Cedar Products Ltd.
Antrim Cedar Corporation
Aquila Cedar Products Ltd.
Arbec Lumber Inc.
Aspen Planers Ltd.
B&L Forest Products Ltd.
Babine Forest Products Limited
Bakerview Forest Products Inc.
Bardobec Inc.
Barrette-Chapais Ltee
BarretteWood Inc.
Benoît & Dionne Produits Forestiers Ltée (aka Benoît & Dionne Forest Products Ltd.)
Best Quality Cedar Products Ltd.
Blanchet Multi Concept Inc.
Blanchette & Blanchette Inc.
Bois Aisé de Montréal Inc.
Bois Bonsaï inc.
Bois D'Oeuvre Cedrico Inc. (aka Cedrico Lumber Inc.)
Bois Daaquam Inc.
Bois et Solutions Marketing SPEC, Inc.
Boisaco Inc.
Boscus Canada Inc.
Boucher Bros. Lumber Ltd.
BPWood Ltd.
Bramwood Forest Inc.
Brink Forest Products Ltd.
Brunswick Valley Lumber Inc.
Burrows Lumber (CD) Ltd., Theo A. Burrows Lumber Company Limited
Busque & Laflamme Inc.
Campbell River Shake & Shingle Co. Ltd.
Canada Pallet Corp.
Canadian Forest Products Ltd.; Canfor Wood Products Marketing Ltd.; Canfor Corporation
Canasia Forest lndustries Ltd.
Canyon Lumber Company Ltd.
Careau Bois Inc.
Carrier & Bégin Inc.
Carrier Forest Products Ltd.
Carrier Lumber Ltd.
Carter Forest Products Inc.
Cedar Island Forest Products Ltd.
Cedar Valley Holdings Ltd.
Cedarcoast Lumber Products
Cedarland Forest Products Ltd.
Cedarline Industries Ltd.
Central Cedar Ltd.
Central Forest Products Inc.
Centurion Lumber Ltd.
Chaleur Sawmills LP
Channel-ex Trading Corporation
Clair Industrial Development Corp. Ltd.
Clermond Hamel Ltee
CNH Products Inc.
Coast Clear Wood Ltd.
Coast Mountain Cedar Products Ltd.
Commonwealth Plywood Co. Ltd.
Conifex Fibre Marketing Inc.
Coulson Manufacturing Ltd.
Cowichan Lumber Ltd.
CS Manufacturing Inc. (dba Cedarshed)
CWP—Industriel Inc.
CWP—Montréal Inc.
D & D Pallets Ltd.
Dakeryn Industries Ltd.
Decker Lake Forest Products Ltd.
Deep Cove Forest Products, Inc.
Delco Forest Products Ltd.
Delta Cedar Specialties Ltd.
Devon Lumber Co. Ltd.
DH Manufacturing Inc.
Direct Cedar Supplies Ltd.
Distribution Rioux Inc.
Doubletree Forest Products Ltd.
Downie Timber Ltd.
Dunkley Lumber Ltd.
EACOM Timber Corporation
East Fraser Fiber Co. Ltd.
Edgewood Forest Products Inc.
Elrod Cartage Ltd.
ER Probyn Export Ltd.
Falcon Lumber Ltd.
Fontaine Inc.
Foothills Forest Products Inc.
Fornebu Lumber Company Inc.
Fraser Specialty Products Ltd.
FraserWood Industries Ltd
Furtado Forest Products Ltd.
Glandell Enterprises Inc.
Goldband Shake & Shingle Ltd.
Goldwood Industries Ltd.
Goodfellow Inc.
Gorman Bros. Lumber Ltd.
Greendale Industries Inc.
Greenwell Resources Inc.
Griff Building Supplies Ltd.
Groupe Crête Chertsey Inc.
Groupe Crête Division St-Faustin Inc.
Groupe Lebel Inc.
Groupe Lignarex Inc.
H.J. Crabbe & Sons Ltd.
Haida Forest Products Ltd.
Halo Sawmill, a division of Delta Cedar Specialties Ltd.
Hampton Tree Farms, LLC (dba Hampton Lumber Sales Canada)
Hornepayne Lumber LP
Hudson Mitchell & Sons Lumber Inc.
Hy Mark Wood Products Inc.
Imperial Cedar Products Ltd.
Independent Building Materials Distribution Inc.
Interfor Corporation
Interfor Sales & Marketing Ltd.
Intertran Holdings Ltd. (dba Richmond Terminal)
Island Cedar Products Ltd.
J&G Log Works Ltd.
J.H. Huscroft Ltd.
Jan Woodlands (2001) Inc.
Jasco Forest Products Ltd.
Jazz Forest Products Ltd.
Jhajj Lumber Corporation
Kalesnikoff Lumber Co. Ltd.
Kan Wood Ltd.
Kébois Ltée
Kelfor Industries Ltd.
Kermode Forest Products Ltd.
Keystone Timber Ltd.
L'Atelier de Réadaptation au Travil de Beauce Inc.
Lafontaine Lumber Inc.
Langevin Forest Products Inc.
Lecours Lumber Co. Limited
Leisure Lumber Ltd.
Les Bardeaux Lajoie Inc.
Les Bois d'oeuvre Beaudoin Gauthier Inc.
Les Bois Martek Lumber
Les Bois Traités M.G. Inc.
Les Chantiers de Chibougamau Ltée
Les Industries P.F. Inc.
Les Palettes B.B. Inc. (aka B.B.Pallets Inc.)
Les Produits Forestiers D&G Ltée (aka D&G Forest Products Ltd.)
Leslie Forest Products Ltd.
Lignum Forest Products LLP
Linwood Homes Ltd.
Lonestar Lumber lnc.
Lulumco inc.
Magnum Forest Products, Ltd.
Maibec inc.
Mainland Sawmill, a division of Terminal Forest Products
Manitou Forest Products Ltd.
Manning Forest Products Ltd.; Sundre Forest Products Inc.; Blue Ridge Lumber Inc.; West Fraser Mills Ltd.
Marcel Lauzon Inc.
Marwood Ltd.
Materiaux Blanchet Inc.
Mid Valley Lumber Specialties Ltd.
Midway Lumber Mills Ltd.
Mill & Timber Products Ltd.
Millar Western Forest Products Ltd.
Mirax Lumber Products Ltd.
Mobilier Rustique (Beauce) Inc.
Monterra Lumber Mills Limited
Morwood Forest Products Inc.
Multicedre Itee
Nakina Lumber Inc.
National Forest Products Ltd.
Nicholson and Cates Ltd
Nickel Lake Lumber
Norsask Forest Products Inc.
Norsask Forest Products Limited Partnership
North American Forest Products Ltd. (located in Saint-Quentin, New Brunswick)
North American Forest Products, Ltd. (located in Abbotsford, British Columbia)
North Enderby Timber Ltd.
Northland Forest Products Ltd.
Olympic Industries Inc-Reman Codes
Olympic Industries ULC
Olympic Industries ULC-Reman
Olympic Industries ULC-Reman Code
Olympic Industries, Inc.
Oregon Canadian Forest Products Inc. d.b.a. Oregon Canadian Forest Products
Pacific Coast Cedar Products Ltd.
Pacific Lumber Remanufacturing Inc.
Pacific Pallet, Ltd.
Pacific Western Wood Works Ltd.
PalletSource Inc.
Parallel Wood Products Ltd.
Pat Power Forest Products Corporation
Phoenix Forest Products Inc.
Pine Ideas Ltd.
Pioneer Pallet & Lumber Ltd.
Porcupine Wood Products Ltd.
Portbec Forest Products Ltd./Les Produits Forestiers Portbec Ltée
Power Wood Corp.
Precision Cedar Products Corp.
Prendiville Industries Ltd. (aka Kenora Forest Products)
Produits Forestiers Petit Paris Inc.
Produits forestiers Temrex, s.e.c.
Produits Matra Inc.
Promobois G.D.S. Inc.
Rayonier A.M. Canada GP
Rembos Inc.
René Bernard Inc.
Resolute Growth Canada Inc.; Forest Products Mauricie LP, Société en commandite Scierie Opitciwan; Resolute-LP Engineered Wood Larouche Inc.; Resolute-LP Engineered Wood St-Prime Limited Partnership; Resolute FP Canada Inc.
Rick Dubois
Rielly Industrial Lumber Inc.
River City Remanufacturing Inc.
S&R Sawmills Ltd.
S&W Forest Products Ltd.
San Industries Ltd.
Sapphire Lumber Company
Sawarne Lumber Co. Ltd.
Scierie Alexandre Lemay & Fils Inc.
Scierie St-Michel Inc.
Scierie West Brome Inc.
Scott Lumber Sales
Sechoirs de Beauce Inc.
Shakertown Corp.
Sigurdson Forest Products Ltd.
Silvaris Corporation
Sinclar Group Forest Products Ltd.
Skana Forest Products Ltd.
Skeena Sawmills Ltd.
Sonora Logging Ltd.
Source Forest Products
South Beach Trading Inc.
South Coast Reman Ltd.
South Fraser Container Terminals
Specialiste du Bardeau de Cedre Inc.
Spruceland Millworks Inc.
Star Lumber Canada Ltd.
Suncoast Industries Inc.
Suncoh Custom Lumber Ltd.
Sundher Timber Products Inc.
Surplus G Rioux
Surrey Cedar Ltd.
Taan Forest Limited Partnership
Taiga Building Products Ltd.
Tall Tree Lumber Company
Teal Cedar Products Ltd.
Terminal Forest Products Ltd.
The Teal Jones Group
The Wood Source Inc.
Tolko Marketing and Sales Ltd., Tolko Industries Ltd., and Gilbert Smith Forest Products Ltd.
Trans-Pacific Trading Ltd.
Triad Forest Products Ltd.
Twin Rivers Paper Co. Inc.
Tyee Timber Products Ltd.
Usine Sartigan Inc.
Vaagen Fibre Canada ULC
Valley Cedar 2 Inc.
Vancouver Specialty Cedar Products Ltd.
Vanderhoof Specialty Wood Products Ltd.
Visscher Lumber Inc.
W.I. Woodtone Industries Inc.
Waldun Forest Product Sales Ltd.
Watkins Sawmills Ltd.
West Bay Forest Products Ltd.
Western Forest Products Inc.
Western Lumber Sales Limited
Western Timber Products, Inc.
Westminster Industries Ltd.
Weston Forest Products Inc.
Weyerhaeuser Co.
White River Forest Products L.P.
Winton Homes Ltd.
Woodline Forest Products Ltd.
Woodstock Forest Products
Woodtone Specialties Inc.
WWW Timber Products Ltd.
India: Polyester Textured Yarn, A-533-885 | 7/1/19-12/31/20
Sanathan Textiles Private Limited
Thailand: Prestressed Concrete Steel Wire Strand, A-549-820 | 1/1/20-12/31/20
The Siam Industrial Wire Co., Ltd.
Thai Wire Products Public Co. Ltd.
The People's Republic of China: Certain Hardwood Plywood Products, A-570-051 | 1/1/20-12/31/20
Anhui Hoda Wood Co., Ltd.
Celtic Co., Ltd China Friend Limited.
Cosco Star International Co., Ltd.
Deqing China-Africa Foreign Trade Port Co., Ltd.
Feixian Jinde Wood Factory
G.D. Enterprise Limited
Happy Wood Industrial Group Co., Ltd.
Henan Hongda Woodcraft Industry Co., Ltd.
Jiangsu Qianjiuren International Trading Co., Ltd.
Jiangsu Shengyang Industrial Joint Stock Co., Ltd.
Jiashan Dalin Wood Industry Co., Ltd.
Jiaxing Hengtong Wood Co., Ltd.
Jiaxing Kaochuan Woodwork Co., Ltd.
Leadwood Industrial Corp.
Linyi Chengen Import and Export Co., Ltd.
Linyi City Dongfang Fukai Wood Industry Co., Ltd.
Linyi City Shenrui International Trade Co., Ltd.
Linyi Evergreen Wood Co., Ltd.
Linyi Glary Plywood Co., Ltd.
Linyi Huasheng Yongbin Wood Co., Ltd.
Linyi Jiahe Wood Industry Co., Ltd.
Linyi Sanfortune Wood Co., Ltd.
Linyi Tian He Wooden Industry Co., Ltd.
Pizhou Dayun Import & Export Trade Co., Ltd.
Pizhou Jin Sheng Yuan International Trade Co., Ltd.
Qingdao Top P&Q International Corp.
Shandong Anxin Timber Co., Ltd.
Shandong Huaxin Jiasheng Wood Co., Ltd.
Shandong Huiyu International Trade Co., Ltd.
Shandong Johnson Trading Co., Ltd.
Shandong Qishan International Trading Co., Ltd
Shanghai Brightwood Trading Co., Ltd.
Shanghai Futuwood Trading Co., Ltd.
Shanghai Luli Trading Co., Ltd.
Shanghai S&M Trade Co., Ltd.
Smart Gift International
Suining Pengxiang Wood Co., Ltd.
Suqian Hopeway International Trade Co., Ltd.
Suqian Yaorun Trade Co., Ltd
Suzhou Dongsheng Wood Co., Ltd.
Suzhou Oriental Dragon Import and Export Co., Ltd.
Xuzhou Baoqi Wood Product Co., Ltd.
Xuzhou Dilun Wood Co. Ltd.
Xuzhou Eastern Huatai International Trading Co., Ltd.
Xuzhou Hansun Import & Export Co. Ltd.
Xuzhou Jiangheng Wood Products Co., Ltd.
Xuzhou Jiangyang Wood Industries Co., Ltd.
Xuzhou Maker's Mark Building Materials Co., Ltd.
Xuzhou Shenghe Wood Co. Ltd.
Xuzhou Shuiwangxing Trading Co., Ltd.
Xuzhou Shuner Import & Export Trade Co. Ltd.
Xuzhou Tianshan Wood Co., Ltd.
Xuzhou Timber International Trade Co., Ltd.
Yangzhou Hanov International Co., Ltd.
Zhejiang Dehua TB Import & Export Co., Ltd.
The People's Republic of China: Crystalline Silicon Photovoltaic Cells, Whether Or Not Assembled Into Modules,⁶ A-570-979 | 12/1/19-11/30/20
The People's Republic of China: Wooden Bedroom Furniture, A-570-890 | 1/1/20-12/31/20
Dongguan Chengcheng Group Co., Ltd.
Dongguan Sunrise Furniture Co.
Dongguan Sunrise Furniture Co., Ltd.
Eurosa (Kunshan) Co., Ltd.
Eurosa Furniture Co., (PTE) Ltd.
Fairmont Designs
Fortune Glory Industrial Ltd. (H.K. Ltd.)
Fortune Glory Industrial, Ltd. (HK Ltd.)
Golden Lion International Trading Ltd.
Golden Well International (HK), Ltd.
Guangzhou Maria Yee Furnishings Ltd.
Hang Hai Woodcraft's Art Factory
Hui Zhou Tian Mei Furniture Co., Ltd.
Jiangmen Kinwai Furniture Decoration Co., Ltd.,
Jiangmen Kinwai International Furniture Co., Ltd.
Jiangsu Xiangsheng Bedtime Furniture Co., Ltd.
Jiangsu Yuexing Furniture Group Co., Ltd.
Lianjiang Zongyu Art Products Co., Ltd.
Maria Yee, Inc.
Meizhou Sunrise Furniture Co., Ltd.
Nanhai Jiantai Woodwork Co. Ltd.
Nathan International Ltd., Nathan Rattan Factory
Perfect Line Furniture Co., Ltd.
PuTian JingGong Furniture Co., Ltd.
Pyla HK Ltd.
Shanghai Sunrise Furniture Co., Ltd.
Shenyang Shining Dongxing Furniture Co., Ltd.
Shenzhen Forest Furniture Co., Ltd.
Shenzhen Jiafa High Grade Furniture Co., Ltd.
Shenzhen New Fudu Furniture Co., Ltd.
Shenzhen Wonderful Furniture Co., Ltd.
Shin Feng Furniture Co., Ltd.
Stupendous International Co., Ltd.
Sun Fung Co.
Sun Fung Wooden Factory
Sunforce Furniture (Hui-Yang) Co., Ltd.
Superwood Co. Ltd.
Taicang Fairmont Designs Furniture Co., Ltd.
Taicang Sunrise Wood Industry Co., Ltd.
Taicang Sunrise Wood Industry, Co., Ltd.
Tradewinds Furniture Ltd. (successor-in-interest to Nanhai Jiantai Woodwork Co.)
Wuxi Yushea Furniture Co., Ltd.
Xiamen Yongquan Sci-Tech Development Co., Ltd.
Yeh Brothers World Trade Inc.
Yihua Lifestyle Technology Co., Ltd.
Yihua Timber Industry Co., Ltd. (a.k.a. Guangdong Yihua Timber Industry Co., Ltd.)
Zhangjiagang Daye Hotel Furniture Co. Ltd.
Zhangzhou Guohui Industrial & Trade Co. Ltd.
Zhangzhou XYM Furniture Product Co., Ltd.
Zhejiang Tianyi Scientific & Educational Equipment Co., Ltd.
Zhongshan Fookyik Furniture Co., Ltd.
Zhongshan Golden King Furniture Industrial Co., Ltd.
Zhoushan For-Strong Wood Co., Ltd.
CVD Proceedings
Argentina: Biodiesel, C-357-821 | 1/1/20-12/31/20
Aceitera General Deheza S.A.
Bio Nogoya S.A.
Bunge Argentina S.A.
Cámara Argentina de Biocombustibles
Cargill S.A.C.I.
COFCO Argentina S.A.
Explora
GEFCO Argentina
LDC Argentina S.A.
Molinos Agro S.A.
Noble Argentina
Oleaginosa Moreno Hermanos S.A.
Patagonia Bioenergia
Renova S.A.
T6 Industrial SA (EcoFuel)
Unitec Bio S.A.
Vicentin S.A.I.C.
Viluco S.A.
Canada: Softwood Lumber,⁷ C-122-858 | 1/1/20-12/31/20
1074712 BC Ltd.
5214875 Manitoba Ltd.
752615 B.C Ltd, Fraserview Remanufacturing Inc, dba Fraserview Cedar Products.
9224-5737 Québec inc. (aka A.G. Bois)
AA Trading Ltd.
Absolute Lumber Products, Ltd.
Adwood Manufacturing Ltd.
Aler Forest Products, Ltd.
All American Forest Products Inc.
Alpa Lumber Mills Inc.
Andersen Pacific Forest Products Ltd.
Anglo American Cedar Products Ltd.
Antrim Cedar Corporation
Aquila Cedar Products, Ltd.
Arbec Lumber Inc.
Aspen Planers Ltd.
B&L Forest Products Ltd
B.B. Pallets Inc.
Babine Forest Products Limited
Bakerview Forest Products Inc.
Bardobec Inc.
Barrette-Chapais Ltee
BarretteWood Inc.
Benoît & Dionne Produits Forestiers Ltee
Best Quality Cedar Products Ltd.
Blanchet Multi Concept Inc.
Blanchette & Blanchette Inc.
Bois Aise de Montreal inc.
Bois Bonsaï Inc.
Bois Daaquam Inc.
Bois D'oeuvre Cedrico Inc. (aka Cedrico Lumber Inc.)
Bois et Solutions Marketing SPEC, Inc.
Boisaco
Boscus Canada Inc.
Boucher Bros. Lumber Ltd.
BPWood Ltd.
Bramwood Forest Inc.
Brunswick Valley Lumber Inc.
Burrows Lumber (CD) Ltd., Theo A. Burrows Lumber Company Limited
Busque & Laflamme Inc.
Campbell River Shake & Shingle Co., Ltd.
Canada Pallet Corp.
Canasia Forest lndustries Ltd.
Canfor Corporation
Canyon Lumber Company, Ltd.
Careau Bois Inc.
Carrier & Begin Inc.
Carrier Forest Products Ltd.
Carrier Lumber Ltd.
Carter Forest Products Inc.
Cedar Island Forest Products Ltd.
Cedar Valley Holdings Ltd.
Cedarland Forest Products Ltd.
Cedarline Industries, Ltd.
Central Cedar Ltd.
Central Forest Products, Inc.
Centurion Lumber, Ltd.
Chaleur Sawmills LP
Channel-ex Trading Corporation
Clair Industrial Development Corp. Ltd.
Clermond Hamel Ltee
CNH Products Inc.
Coast Mountain Cedar Products Ltd.
Commonwealth Plywood Co. Ltd.
Comox Valley Shakes (2019) Ltd.
Conifex Fibre Marketing Inc.
Cowichan Lumber Ltd.
CS Manufacturing Inc., dba Cedarshed
CWP—Industriel Inc.
CWP—Montreal inc.
D & D Pallets, Ltd.
Dakeryn Industries Ltd.
Decker Lake Forest Products Ltd.
Delco Forest Products Ltd.
Delta Cedar Specialties Ltd.
Devon Lumber Co. Ltd.
DH Manufacturing Inc.
Direct Cedar Supplies Ltd.
Distribution Rioux Inc.
Doubletree Forest Products Ltd.
Downie Timber Ltd.
Dunkley Lumber Ltd.
EACOM Timber Corporation
East Fraser Fiber Co. Ltd.
Edgewood Forest Products Inc.
Elrod Cartage Ltd.
ER Probyn Export Ltd.
Falcon Lumber Ltd.
Fontaine Inc.
Foothills Forest Products Inc.
Fornebu Lumber Co. Ltd.
Fraser Specialty Products Ltd.
FraserWood Industries Ltd.
Furtado Forest Products Ltd.
Glandell Enterprises Inc.
Goldband Shake & Shingle Ltd.
Goldwood Industries Ltd.
Goodfellow Inc.
Gorman Bros. Lumber Ltd.
Greendale Industries Inc.
Greenwell Resources Inc.
Griff Building Supplies Ltd.
Groupe Crete Chertsey
Groupe Crete division St-Faustin
Groupe Lebel Inc.
Groupe Lignarex Inc.
H.J. Crabbe & Sons Ltd.
Haida Forest Products Ltd.
Hampton Tree Farms, LLC dba Hampton Lumber Sales Canada
Hornepayne Lumber LP
Hudson Mitchell & Sons Lumber Inc.
Hy Mark Wood Products Inc.
Imperial Cedar Products, Ltd.
Interfor Corporation
Interfor Sales & Marketing Ltd.
Intertran Holdings Ltd. dba Richmond Terminal
Island Cedar Products Ltd
J&G Log Works Ltd.
J.D. Irving, Limited
J.H. Huscroft Ltd.
Jan Woodland (2001) inc.
Jasco Forest Products Ltd.
Jazz Forest Products Ltd.
Jhajj Lumber Corporation
Kalesnikoff Lumber Co. Ltd.
Kan Wood, Ltd.
Kebois Ltee/Ltd
Kelfor Industries Ltd.
Kermode Forest Products Ltd.
Keystone Timber Ltd.
L'Atelier de Réadaptation au Travil de Beauce Inc.
Lafontaine Lumber Inc.
Langevin Forest Products Inc.
Lecours Lumber Co. Limited
Leisure Lumber Ltd.
Les Bardeaux Lajoie Inc.
Les Bois d'oeuvre Beaudoin Gauthier inc.
Les Bois Martek Lumber
Les Bois Traites M.G. Inc.
Les Chantiers de Chibougamau ltd.
Les Industries P.F. Inc.
Les Produits Forestiers D&G Ltee
Leslie Forest Products Ltd.
Lignum Forest Products LLP
Linwood Homes Ltd.
Lonestar Lumber lnc.
Lulumco Inc.
Magnum Forest Products, Ltd.
Maibec Inc.
Manitou Forest Products Ltd.
Marcel Lauzon Inc.
Marwood Ltd.
Materiaux Blanchet Inc.
Mid Valley Lumber Specialties, Ltd.
Midway Lumber Mills Ltd.
Mill & Timber Products Ltd.
Millar Western Forest Products Ltd.
Mirax Lumber Products Ltd.
Mobilier Rustique (Beauce) Inc.
Monterra Lumber Mills Limited
Morwood Forest Products Inc.
Multicedre Itee
Nakina Lumber Inc.
National Forest Products Ltd.
Nicholson and Cates Ltd
NorSask Forest Products Limited Partnership
North American Forest Products Ltd. (located in Abbotsford, British Columbia)
North American Forest Products Ltd. (located in Saint-Quentin, New Brunswick)
North Enderby Timber Ltd.
Northland Forest Products Ltd.
Olympic Industries, Inc./Olympic Industries Inc-Reman Code/Olympic Industries ULC/Olympic Industries ULCReman/Olympic Industries ULC-Reman Code
Oregon Canadian Forest Products Inc. dba Oregon Canadian Forest Products
Pacific Coast Cedar Products Ltd.
Pacific Lumber Remanufacturing Inc.
Pacific Pallet, Ltd.
Pacific Western Wood Works Ltd.
PalletSource Inc.
Parallel Wood Products Ltd.
Pat Power Forest Products Corporation
Phoenix Forest Products Inc.
Pioneer Pallet & Lumber Ltd
Porcupine Wood Products Ltd.
Portbec Forest Products Ltd (aka Les Produits Forestiers Portbec Ltée)
Power Wood Corp.
Precision Cedar Products Corp.
Prendiville Industries Ltd. (aka Kenora Forest Products)
Produits Forestiers Petit Paris
Produits forestiers Temrex, s.e.c.
Produits Matra Inc.
Promobois G.D.S. Inc.
Rayonier A.M. Canada GP
Rembos Inc.
Rene Bernard Inc.
Resolute FP Canada Inc.
Rick Dubois
Rielly Industrial Lumber Inc.
River City Remanufacturing Inc.
Roland Boulanger & Cie Ltee
S&R Sawmills Ltd
S&W Forest Products Ltd.
San Industries Ltd.
Sapphire Lumber Company
Sawarne Lumber Co. Ltd.
Scierie Alexandre Lemay & Fils Inc.
Scierie St‐Michel inc.
Scierie West Brome Inc.
Scott Lumber Sales
Sechoirs de Beauce Inc.
Shakertown Corp.
Sigurdson Forest Products Ltd.
Silvaris Corporation
Sinclar Group Forest Products Ltd.
Skana Forest Products Ltd.
Skeena Sawmills Ltd
Sonora Logging Ltd.
Source Forest Products
South Beach Trading Inc.
South Coast Reman Ltd.
South Fraser Container Terminals
Specialiste du Bardeau de Cedre Inc
Spruceland Millworks Inc.
Star Lumber Canada Ltd.
Suncoast Industries Inc.
Suncoh Custom Lumber Ltd.
Sundher Timber Products Inc.
Surplus G Rioux
Surrey Cedar Ltd.
Taan Forest Limited Partnership
Taiga Building Products Ltd.
Tall Tree Lumber Company
Teal Cedar Products Ltd.
Terminal Forest Products Ltd.
The Teal-Jones Group
The Wood Source Inc.
Tolko Marketing and Sales Ltd., Tolko Industries Ltd., and Gilbert Smith Forest Products Ltd.
Trans-Pacific Trading Ltd.
Triad Forest Products Ltd.
Twin Rivers Paper Co. Inc.
Tyee Timber Products Ltd.
Usine Sartigan Inc.
Vaagen Fibre Canada, ULC
Valley Cedar 2 Inc.
Vancouver Specialty Cedar Products Ltd.
Visscher Lumber Inc
W.I. Woodtone Industries Inc.
Waldun Forest Product Sales Ltd.
Watkins Sawmills Ltd.
West Bay Forest Products Ltd.
West Fraser Mills Ltd.
Western Forest Products Inc.
Western Lumber Sales Limited
Western Timber Products, Inc.
Westminster Industries Ltd.
Weston Forest Products Inc.
Weyerhaeuser Co.
White River Forest Products L.P.
Winton Homes Ltd.
Woodline Forest Products Ltd.
Woodstock Forest products
Woodtone Specialties Inc.
WWW Timber Products Ltd.
India: Polyester Textured Yarn, C-533-886 | 5/3/19-12/31/20
Sanathan Textiles Private Limited
Indonesia: Biodiesel, C-560-831 | 1/1/20-12/31/20
PT Cermerlang Energi Perkasa (CEP)
PT Ciliandra Perkasa
PT. Musim Mas, Medan
PT Pelita Agung Agrindustri
Wilmar International Ltd.
The People's Republic of China: Multilayered Wood Flooring, C-570-971 | 1/1/19-12/31/19
Metropolitan Hardwood Floors, Inc.⁸
Suspension Agreements
None.

Duty Absorption Reviews

⁵ We request that the companies listed for A-122-857 review the spelling of their company name. If a company name is not accurate (i.e., misspelled or incomplete) or appears more than once with different spelling variations, then please notify Commerce of the company's correct legal name in writing within 30 days after the date of publication of this initiation notice. All submissions must be filed electronically at https://access.trade.gov.

⁶ In the initiation notice that published on February 4, 2021 (86 FR 8166), Commerce inadvertently listed the wrong period of review for the referenced case above. The correct period of review is listed in this notice.

⁷ We request that the companies listed for C-122-858 review the spelling of their company name. If a company name is not accurate (i.e., misspelled or incomplete) or appears more than once with different spelling variations, then please notify Commerce of the company's correct legal name in writing within 30 days after the date of publication of this initiation notice. All submissions must be filed electronically at https://access.trade.gov.

⁸ This company was inadvertently omitted from the initiation notice that published on February 4, 2021 (86 FR 8166). This omission is corrected in this notice.

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,⁹ available at https://enforcement.trade.gov/frn/2013/1304frn/2013-08227.txt, prior to submitting factual information in this segment. Note that Commerce has temporarily modified certain of its requirements for serving documents containing business proprietary information, until further notice.¹⁰

⁹ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

¹⁰ See Temporary Rule Modifying AD/CVD Service Requirements Due to COVID-19, 85 FR 41363 (July 10, 2020).

Any party submitting factual information in an AD or CVD proceeding must certify to the accuracy and completeness of that information using the formats provided at the end of the Final Rule.¹¹ Commerce intends to reject factual submissions in any proceeding segments if the submitting party does not comply with applicable certification requirements.

¹¹ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹² In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

¹² See 19 CFR 351.302.

These initiations and this notice are in accordance with section 751(a) of the Act (19 U.S.C. 1675(a)) and 19 CFR 351.221(c)(1)(i).

Dated: February 26, 2021.
James Maeder,
Deputy Assistant Secretary for Antidumping and Countervailing Duty Operations.

[FR Doc. 2021-04479 Filed 3-3-21; 8:45 am]

BILLING CODE 3510-DS-P